ENVIRONMENTAL PROTECTION AGENCY

[FRL-9960-16-Region 1]

Notice of Availability of Final NPDES General Permits for Discharges From Potable Water Treatment Facilities in Massachusetts and New Hampshire: The Potable Water Treatment Facility General Permit (PWTF GP)

AGENCY: Environmental Protection Agency (EPA).

ACTION: Notice of Availability of Final NPDES General Permits MAG640000 and NHG640000.

SUMMARY: The Director of the Office of Ecosystem Protection, U.S. Environmental Protection Agency (EPA)—Region 1, is providing a notice of availability of the final National Pollutant Discharge Elimination System (NPDES) General Permits (GP) for discharges from potable water treatment facilities (PWTFs) to certain waters of the Commonwealth of Massachusetts and the State of New Hampshire. The final General Permits establish Notice of Intent (NOI) requirements, effluent limitations, standard and special conditions, prohibitions, and best management practices (BMPs) for sites with discharges from potable water treatment facilities. These General Permits replace the previous PWTF GP that expired on October 2, 2014.

DATES: The General Permits shall be effective on March 6, 2017 and will expire five (5) years from the effective date. In accordance with 40 CFR part 23, this permit shall be considered issued for the purpose of judicial review on March 20, 2017. Under section 509(b) of the Clean Water Act, judicial review can be had by filing a petition for review in the United States Court of Appeals within 120 days after the permit is considered issued for purposes of judicial review. Under section 509(b)(2) of the Clean Water Act, the requirements in this permit may not be challenged later in civil or criminal proceedings to enforce these requirements. In addition, this permit may not be challenged in other agency proceedings.

FOR FURTHER INFORMATION CONTACT: Additional information concerning the final General Permits may be obtained between the hours of 9 a.m. and 5 p.m. Monday through Friday, excluding holidays, from Mark Voorhees, U.S. EPA—Region 1, Office of Ecosystem Protection, 5 Post Office Square—Suite 100, Mail Code OEP06-4, Boston, MA 02109-3912; telephone: 617-918-1537; email: voorhees.mark@epa.gov.

SUPPLEMENTARY INFORMATION: EPA is reissuing two General Permits for wastewater discharges from potable water treatment facilities in Massachusetts and New Hampshire, that are generally less than or equal to 1.0 million gallons per day (MGD) and that use one or more of the following treatment processes: Clarification, Coagulation, Media Filtration, Membrane filtration (not including reverse osmosis), and Disinfection. While the final General Permits are two distinct permits, for convenience, EPA has grouped them together in a single document and has provided a single fact sheet. This document refers to the draft General “Permit” in the singular. The final General Permit, fact sheet, and appendices are available at: http://www.epa.gov/region1/npdes/pwtfgp.html.

The final General Permit establishes Notice of Intent (NOI) requirements, effluent limitations and requirements based on technology-based considerations, best professional judgment (BPJ), and water quality considerations. The effluent limits established in the final General Permit assure that the surface water quality standards of the receiving water(s) are protected, attained, and/or maintained. The permit also contains BMP requirements in order to ensure EPA has the information necessary to ensure compliance and to ensure discharges meet water quality standards.

Obtaining Authorization: In order to obtain authorization to discharge, PWTF operators must submit a complete and accurate NOI containing the information in Appendix IV of the General Permit. This information shall be submitted to both EPA and the appropriate state, as described in Appendix IV. NOIs may be submitted to EPA electronically or via mail at the addresses provided below:

(1) Email: pwtf.generalpermit@epa.gov, or

(2) Mail: Mark Voorhees, U.S. EPA—Region 1, Office of Ecosystem Protection, 5 Post Office Square—Suite 100, Mail Code OEP06-4, Boston, MA 02109-3912.

All NOIs submitted to EPA after December 21, 2020 must be submitted electronically.

Facilities currently authorized to discharge under the Expired PWTF GP must submit a NOI within 90 days of the effective date of the final General Permit. Operators with new discharges must submit a NOI at least 60 days prior to initiating discharges and following the effective date of the final General Permit. Facilities with existing discharges that were not authorized under the Expired PWTF GP and which use aluminum in their treatment process must conduct more extensive water quality sampling data and submit this information with the NOI within 6 months of the effective date of the final General Permit.

Operators must meet the eligibility requirements of the General Permit prior to submission of a NOI. An operator will be authorized to discharge under the General Permit upon receipt of written notice from EPA following EPA's web posting of the submitted NOI. EPA will authorize the discharge, request additional information, or require the operator to apply for an alternative permit or an individual permit.

Other Legal Requirements: Endangered Species Act (ESA): EPA has updated the provisions and necessary actions and documentation related to potential impacts to endangered species from facilities seeking coverage under the PWTF GP. EPA has received concurrence from the National Marine Fisheries Service in connection with this General Permit.

In the fact sheet that accompanied the draft General Permit, EPA stated that we would seek concurrence from the U.S. Fish and Wildlife Service (USFWS) regarding our determination of effect on endangered species under their jurisdiction. Following the release of the draft General Permit, EPA had discussions with USFWS on this matter. Based on discussions with USFWS, EPA has determined that this General Permit has “no effect.” The reason for this determination is because each Notice of Intent (NOI) that is submitted must assess site specific endangered species impacts using USFWS' Information, Planning, and Conservation (IPac) Web site, available at https://ecos.fws.gov/ipac/. Based on the findings using this Web site, the applicant can either make a determination of impacts or if there are questions, seek input from USFWS directly. Since each NOI is individually screened prior to submission, the General Permit has no effect.

National Historic Preservation Act (NHPA): In accordance with NHPA, EPA has established provisions and documentation requirements for sites seeking coverage under the PWTF GP to ensure that discharges or actions taken under this General Permit will not adversely affect historic properties and places.

Authority: This action is being taken under the Clean Water Act, 33 U.S.C. 1251 et seq.

Dated: March 9, 2017.
Deborah A. Szaro,
Acting Regional Administrator, Region 1.

[FR Doc. 2017-07149 Filed 4-7-17; 8:45 am]

BILLING CODE 6560-50-P